NUCLEAR REGULATORY COMMISSION

NUREG-0800, “Standard Review Plan”, Section 13.1.2-13.1.3, “Operating Organization” Modifications; Draft NUREG-1791, “Guidance for Assessing Exemption Requests From the Nuclear Power Plant Licensed Operator Staffing Requirements Specified in 10 CFR 50.54(m)”; Notice of Availability

AGENCY: Nuclear Regulatory Commission (NRC).

ACTION: Notice of availability of draft documents regarding operating organization and staffing and request for public comment.

SUMMARY: The Nuclear Regulatory Commission (NRC) is announcing the availability of a revision to Section 13.1.2 and 13.1.3 of NUREG-0800, “Standard Review Plan, Operating Organization” and a new draft document “Guidance for Assessing Exemption Requests From the Nuclear Power Plant Licensed Operator Staffing Requirements Specified in 10 CFR 50.54(m)” (NUREG-1791) for public comment.

DATES: Comments on these documents should be submitted by November 1, 2004. Comments received after that date will be considered to the extent practicable. To ensure efficient and complete comment resolution, comments should include references to the section, page, and line numbers of the document to which the comment applies, if possible.

ADDRESSES: Members of the public are invited and encouraged to submit written comments to: Michael Lesar, Chief, Rules and Directives Branch, Office of Administration, Mail Stop T6-D59, U.S. Nuclear Regulatory Commission, Washington, DC 20555-0001. Hand-deliver comments to: 11555 Rockville Pike, Rockville, MD, between 7:30 a.m. and 4:15 p.m. on Federal workdays. Comments may also be sent electronically to NRCREP@nrc.gov.

These documents are available for public inspection at the Nuclear Regulatory Commission's Public Document Room (PDR), located at One White Flint North, Public File Area 01F21, 11555 Rockville Pike (First Floor), Rockville, Maryland, from the Agencywide Documents Access and Management System (ADAMS) Public Electronic Reading Room on the Internet at the NRC Web site at: http://www.nrc.gov/reading-rm/adams.html using Accession numbers ML041550723 (for the draft NUREG) and ML041550746 (for the SRP revisions); and on the NRC Web site at: http://www.nrc.gov/reading-rm/doc-collections/nuregs/docs4comment.

Persons who do not have access to ADAMS or who encounter problems accessing the document in ADAMS should contact the NRC PDR reference staff by telephone at (800) 397-4209, (301) 415-4737, or by e-mail pdr@nrc.gov.

FOR FURTHER INFORMATION CONTACT: James P. Bongarra, Jr., Engineering Psychologist, Office of Nuclear Reactor Regulation, U.S. Nuclear Regulatory Commission, Washington, DC 20555-0001 by telephone at (301) 415-1046 or e-mail at jxb@nrc.gov.

SUPPLEMENTARY INFORMATION:

SRP Section 13.1.2-13.1.3

SRP Section 13.1.2-13.1.3 provides review guidance for the NRC staff to use when evaluating a licensee's or applicant's operating organization, which includes consideration of whether the organization complies with the requirements of 10 CFR 50.54(l-m). The purpose of the NRC staff's review related to SRP Section 13.1.2-13.1.3 is to ensure that adequate and clear structure, functions, roles, responsibilities, staff size, and other relevant considerations for licensed operator staffing are established to operate and maintain the plant.

Minor changes were made to Revision 4 of SRP Section 13.1.2-13.1.3 from the version that was published in November 1999. The changes include additions and language that describe the process for the review of exemption requests for numbers of excused staff along with clarification of some of the language, updating the references, and the addition of references to the staffing exemption request review process identified in the draft NUREG-1791.

Draft NUREG-1791, “Guidance for Assessing Exemption Requests From the Nuclear Power Plant Licensed Operator Staffing Requirements Specified in 10 CFR 50.54(m)”

“Guidance for Assessing Exemption Requests from the Nuclear Power Plant Licensed Operator Staffing Requirements Specified in 10 CFR 50.54(m)” provides regulatory guidance for the review of requests for exemptions from any of the staffing requirements of 10 CFR 50.54(l-m). The introduction of advanced reactor designs and the increased use of advanced automation technologies in existing nuclear power plants may change the roles, responsibilities, composition, and size of the crews required to control plant operations. Current regulations regarding control room staffing, which are based on the concept of operation for existing light-water reactors, may no longer be appropriate for the concept of operations for advanced reactors. Therefore, applicants for an operating license for an advanced reactor, and current licensees who have implemented significant changes to existing control rooms, may wish to submit applications for exemptions from current staffing regulations.

The NRC staff will review the exemption requests and will determine whether the staffing proposals provide adequate assurance that public health and safety will be maintained at a level that is comparable to compliance with the current regulations. NUREG-1791 provides guidance for the NRC staff to perform a systematic review of exemption requests from the current staffing regulations in 10 CFR 50.54(m). The NUREG details the information, data, and review criteria needed to review the exemption request.

The NRC is seeking public comment in order to receive feedback from the widest range of interested parties and to ensure that all information relevant to developing these documents is available to the NRC staff. These documents are being issued for comment only and are not intended for interim use. The NRC will review public comments received on the documents, incorporate suggested changes, as necessary, and issue the final documents for use.

The NRC staff will use the policies and procedures in these documents to review all staffing exemption requests from 10 CFR 50.54 (l-m). These NUREGs will not substitute for the regulations, and compliance with the guidance provided in these documents will not be required. Licensees may propose alternative approaches to determine staffing levels for the exemption request different from those in these NUREGs, if applicants provide a basis for concluding that the exemption request(s) are in compliance with 10 CFR 50.12.

Dated in Rockville, MD, this 26th day of August, 2004.
For the Nuclear Regulatory Commission.
Frank Costello,
Acting Chief, Reactor Operations Branch, Division of Inspection Program Management, Office of Nuclear Reactor Regulation.

[FR Doc. 04-19900 Filed 8-31-04; 8:45 am]

BILLING CODE 7590-01-P